DEPARTMENT OF TRANSPORTATION

Federal Highway Administration

Mississippi Division; Rescinding the Notice of Intent for an Environmental Impact Statement (EIS): Harrison, George, Greene, Jackson, Perry, and Stone Counties, Mississippi

AGENCY: Federal Highway Administration (FHWA), DOT.

ACTION: Rescind Notice of Intent to prepare an EIS.

SUMMARY: This notice rescinds the Notice of Intent for preparing an Environmental Impact Statement (EIS) for proposed highway, State Route 15, to provide a connection between Interstate 10 and U.S. 98 near Beaumont, Harrison, George, Greene, Jackson, Perry, and Stone Counties, Mississippi. The original Notice of Intent for this EIS process was published in the Federal Register on May 28, 2009.

FOR FURTHER INFORMATION CONTACT: Claiborne Barnwell, Project Development Team Leader, Federal Highway Administration, Mississippi Division, 100 West Capitol Street, Suite 1026, Jackson, Mississippi 39269, Telephone: (601) 965-4217.

SUPPLEMENTARY INFORMATION:

Background

The Federal Highway Administration (FHWA) in cooperation with the Mississippi Department of Transportation (MDOT) initiated an Environmental Impact Statement (EIS) with a Notice of Intent May 28, 2009, to provide a connector road between Interstate 10 and U.S. 98.

Due to funding constraints this Notice of Intent is rescinded.

Andrew H. Hughes,
Division Administrator, Mississippi Federal Highway Administration, Jackson, Mississippi.

[FR Doc. 2010-32422 Filed 12-27-10; 8:45 am]

BILLING CODE M